DEPARTMENT OF HOMELAND SECURITY

Coast Guard

33 CFR Part 165

[Docket No. USCG-2009-0559]

RIN 1625-AA00

Safety Zones; Eleventh Coast Guard District Annual Fireworks Events

AGENCY: Coast Guard, DHS.

ACTION: Final rule.

SUMMARY: The Coast Guard is amending multiple permanent safety zones to ensure public safety during annual firework displays at various locations in the Eleventh Coast Guard District. These amendments will standardize the safety zone language, update listed events, delete events that are no longer occurring, add new unlisted annual fireworks events to the regulations, and standardize the format for all tables in these four sections. When these safety zones are activated, and thus subject to enforcement, this rule would limit the movement of vessels within the established firework display area.

DATES: This rule is effective September 15, 2011.

ADDRESSES: Comments and material received from the public, as well as documents mentioned in this preamble as being available in the docket, are part of docket USCG-2009-0559 and are available online by going to http://www.regulations.gov, inserting USCG-2009-0559 in the “Keyword” box, and then clicking “Search.” This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Lieutenant Lucas Mancini, Eleventh Coast Guard District Prevention Division, Waterways Management Branch, Coast Guard; telephone 510-437-3801, e-mail Lucas.W.Mancini@uscg.mil. If you have questions on viewing or submitting material to the docket, call Renee V. Wright, Program Manager, Docket Operations, telephone 202-366-9826.

SUPPLEMENTARY INFORMATION:

Regulatory Information

On February 9, 2011, we published a notice of proposed rulemaking (NPRM) entitled Eleventh Coast Guard District Annual Marine Events, in the Federal Register (76 FR 27). On May 26, 2011, we published a supplemental notice of proposed rulemaking (SNPRM) of the same title to add clarifying language to the proposed rule (76 FR 30584). We received no comments on either the NPRM or the SNPRM or a request for public meeting. A public meeting was not held.

Background and Purpose

Firework displays are held annually on a recurring basis on the navigable waters within the Eleventh Coast Guard District. Many of the annual firework events requiring safety zones do not currently reflect changes in actual dates and other required information. These safety zones are necessary to provide for the safety of the crew, spectators, participants of the event, participating vessels, and other users and vessels of the waterway from the hazards associated with firework displays. This rule will also provide the public current information on safety zone locations, size, and length of time the zones will be active.

The effect of these safety zones will be to restrict general navigation in the vicinity of the events, from the start of each event until the conclusion of that event. These areas will be patrolled at the discretion of the Coast Guard. Except for persons or vessels authorized by the Coast Guard Patrol Commander, no person or vessel may enter or remain in the regulated area. These regulations are needed to keep spectators and vessels a safe distance away from the firework displays to ensure the safety of participants, spectators, and transiting vessels.

33 CFR 165.1191 has not been updated recently and §§ 165.1123, 165.1124, and 165.1125 need to be added. In addition, information for those events that continue to occur has changed in some cases and requires updating. Also, there are minor corrections required in the regulatory text. Finally, amending the text will create standardization with the regulations.

Discussion of Rule

The Coast Guard is revising 33 CFR 165.1191, and adding 33 CFR 165.1123, 165.1124, 165.1125. These amendments are necessary to provide the public with current information on the annual firework displays occurring within the Eleventh Coast Guard District. 33 CFR 165.1191 is revised to conform existing regulatory language for regulations establishing permanent safety zones for annual firework events within the Eleventh Coast Guard District. The Coast Guard is adding 33 CFR 165.1123, 165.1124, and 165.1125 to establish safety zones for annual firework events in two Southern California Captain of the Port Zones, and on the Colorado River between Davis Dam (Bullhead City, Arizona) and Headgate Dam (Parker, Arizona).

Table 1 for each of the listed sections will be updated or added as follows: update with current information existing events, add previously unlisted events, and delete listed events that the Coast Guard has been unable to verify as continuing.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order. We expect the economic impact of this rule to be so minimal that a full Regulatory Evaluation is unnecessary. This rule is not a significant regulatory action because the regulations exist for a limited period of time on a limited portion of the waterways. Further, individuals and vessels desiring to use the affected portion of the waterways may seek permission from the Patrol Commander to use the affected areas.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities.

We expect this rule will affect the following entities, some of which may be small entities: the owners and operators of vessels intending to fish, transit, or anchor in the waters affected by these special local regulations. These special local regulations will not have a significant economic impact on a substantial number of small entities for the following reasons: Small vessel traffic will be able to pass safely around the area and vessels engaged in event activities, sightseeing and commercial fishing have ample space outside of the area governed by the special local regulations to engage in these activities. Small entities and the maritime public will be advised of implementation of these special local regulations via public notice to mariners or notice of implementation published in the Federal Register.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this rule so that they can better evaluate its effects on them and participate in the rulemaking. If the rule would affect your small business, organization, or governmental jurisdiction and you have questions concerning its provisions or options for compliance, please contact Lieutenant Lucas Mancini, Eleventh Coast Guard District Prevention Division, Waterways Management Branch, Coast Guard; telephone 510-437-3801, e-mail Lucas.W.Mancini@uscg.mil. The Coast Guard will not retaliate against small entities that question or complain about this rule or any policy or action of the Coast Guard.

Collection of Information

This rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule would not result in such an expenditure, we do discuss the effects of this rule elsewhere in this preamble.

Taking of Private Property

This rule would not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards. We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraph 34(g), of the Instruction. An environmental analysis checklist and a categorical exclusion determination are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

2. Add § 165.1123 to read as follows:

§ 165.1123 Southern California Annual Firework Events for the San Diego Captain of the Port Zone.

(a) General. Safety zones are established for the events listed in Table 1 of this section. Further information on exact dates, times, and other details concerning the exact geographical description of the areas are published by the Eleventh Coast Guard District in the Local Notice to Mariners at least 20 days prior to the event.

(b) Regulations. All persons and vessels not registered with the sponsor as participants or as official patrol vessels are considered spectators. The “official patrol” consists of any Coast Guard; other Federal, state, or local law enforcement; and any public or sponsor-provided vessels assigned or approved by the cognizant Coast Guard Sector Commander to patrol each event.

(1) No spectator shall anchor, block, loiter, nor impede the through transit of participants or official patrol vessels in the safety zone during all applicable effective dates and times unless cleared to do so by or through an official patrol vessel.

(2) When hailed and/or signaled by an official patrol vessel, any spectator located within a safety zone during all applicable effective dates and times shall come to an immediate stop.

(3) The Patrol Commander (PATCOM) is empowered to forbid and control the movement of all vessels in the safety zone. The Patrol Commander shall be designated by the cognizant Coast Guard Sector Commander; will be a U.S. Coast Guard commissioned officer, warrant officer, or petty officer to act as the Sector Commander's official representative. As the Sector Commander's representative, the PATCOM may terminate the event any time it is deemed necessary for the protection of life and property. PATCOM may be reached on VHF-FM Channel 13 (156.65MHz) or 16 (156.8MHz) when required, by the call sign “PATCOM”.

(4) The Patrol Commander may, upon request, allow the transit of vessels through the safety zone when it is safe to do so.

(5) The Coast Guard may be assisted by other Federal, state, or local agencies.

Table 1 to § 165.1123
[All coordinates referenced use datum NAD 83.]
1. San Diego, CA POPS Fireworks Display
Sponsor | Fireworks America.
Event Description | Fireworks Display.
Date | Friday/Saturday/Sunday Last weekend of June through first weekend of September.
Location | San Diego Bay South Embarcadero.
Regulated Area | 800-foot radius safety zone around tug/barge combination.
2. Fourth of July Fireworks, Mission Bay
Sponsor | Mission Bay 4th of July Fireworks.
Event Description | Fireworks Display.
Date | The first week in July.
Location | Mission Bay/Paradise Point and Sail Bay, CA.
Regulated Area | 800-foot radius safety zone around tug/barge combination.
3. Coronado Fourth of July Fireworks
Sponsor | Coronado, CA.
Event Description | Fireworks Display.
Date | The first week in July.
Location | Glorietta Bay, CA.
Regulated Area | All navigable waters of San Diego Bay in San Diego, CA within a 1200 foot radius of the fireworks barge located at approximately 32°40′41″ N, 117°10′11″ W. Note: This will result in no through vessel traffic of Glorietta Bay for the duration of the fireworks display.
4. San Diego Parade of Lights Fireworks Display
Sponsor | Greater Shelter Island Association.
Event Description | Boat Parade.
Date | December.
Location | San Diego Harbor.
Regulated Area | The northern portion of the San Diego Main Ship Channel from Seaport Village to the Shelter Island Basin. (Note: see also 33 CFR 100.1101, Table 1, number 5 for related marine event.)

3. Add § 165.1124 to read as follows:

§ 165.1124 Annual Firework Events on the Colorado River, between Davis Dam (Bullhead City, Arizona) and Headgate Dam (Parker, Arizona) within the San Diego Captain of Port Zone.

(a) General. Safety zones are established for the events listed in Table 1 of this section. Further information on exact dates, times, and other details concerning the exact geographical description of the areas are published by the Eleventh Coast Guard District in the Local Notice to Mariners at least 20 days prior to the event.

(b) Regulations. All persons and vessels not registered with the sponsor as participants or as official patrol vessels are considered spectators. The “official patrol” consists of any Coast Guard; other Federal, state, or local law enforcement; and any public or sponsor-provided vessels assigned or approved by the cognizant Coast Guard Sector Commander to patrol each event.

(1) No spectator shall anchor, block, loiter, nor impede the through transit of participants or official patrol vessels in the safety zone during all applicable effective dates and times unless cleared to do so by or through an official patrol vessel.

(2) When hailed and/or signaled by an official patrol vessel, any spectator located within a safety zone during all applicable effective dates and times shall come to an immediate stop.

(3) The Patrol Commander (PATCOM) is empowered to forbid and control the movement of all vessels in the safety zone. The Patrol Commander shall be designated by the cognizant Coast Guard Sector Commander; will be a U.S. Coast Guard commissioned officer, warrant officer, or petty officer to act as the Sector Commander's official representative. As the Sector Commander's representative, the PATCOM may terminate the event any time it is deemed necessary for the protection of life and property. PATCOM may be reached on VHF-FM Channel 13 (156.65MHz) or 16 (156.8MHz) when required, by the call sign “PATCOM”.

(4) The Patrol Commander may, upon request, allow the transit of vessels through the safety zone when it is safe to do so.

(5) The Coast Guard may be assisted by other Federal, state, or local agencies.

Table 1 to § 165.1124
[All coordinates referenced use datum NAD 83.]
1. Avi Resort & Casino Memorial Day Fireworks
Sponsor | Avi Resort & Casino.
Event Description | Fireworks Display.
Date | Sunday before Memorial Day.
Location | Laughlin, NV.
Regulated Area | River closure from 8pm-10pm. The safety zone includes all navigable waters of the lower Colorado River at Laughlin, NV encompassed by the following coordinates: 35°01′05″ N, 114°38′20″ W; 35°01′05″ N, 114°38′15″ W; along the shoreline to 35°00′50″ N, 114°38′13″ W; 35°00′49″ N, 114°38′18″ W; along the shoreline to 35°01′05″ N, 114°38′20″ W.
2. Rockets Over the River
Sponsor | Laughlin Tourism Committee.
Event Description | Fireworks Display
Date | First week in July.
Location | Laughlin, NV.
Regulated Area | The temporary safety zone is specifically defined as all navigable waters of the lower Colorado River at Laughlin, NV encompassed by the following coordinates: 35°09′53″ N, 114°34′15″ W; 35°09′53″ N, 114°34′07″ W; along the shoreline to 35°09′25″ N, 114°34'09″ W; 35°09′06″ N, 114°34′17″ W; along the shoreline to 35°09′53″ N, 114°34′15″ W.
3. Avi Resort & Casino Fourth of July Fireworks
Sponsor | Avi Resort & Casino.
Event Description | Fireworks Display.
Date | First week in July.
Location | Laughlin, NV.
Regulated Area | River closure from 8pm-10pm. The safety zone includes all navigable waters of the lower Colorado River at Laughlin, NV encompassed by the following coordinates: 35°01′05″ N, 114°38′20″ W; 35°01′05″ N, 114°38′14″ W; along the shoreline to 35°00′50″ N, 114°38′13″ W; 35°00′49″ N, 114°38′18″ W; along the shoreline to 35°01′05″ N, 114°38′20″ W.
4. Avi Resort & Casino Labor Day Fireworks
Sponsor | Avi Resort & Casino.
Event Description | Fireworks Display.
Date | Sunday before Labor Day.
Location | Laughlin, NV.
Regulated Area | River closure from 8pm-10pm. The safety zone includes all navigable waters of the lower Colorado River at Laughlin, NV encompassed by the following coordinates: 35°01′05″ N, 114°38′20″ W; 35°01′05″ N, 114°38′15″ W; along the shoreline to 35°00′20″ N, 114°38′13″ W; 35°00′49″ N, 114°38′18″ W; along the shoreline to 35°01′05″ N, 114°38′20″ W.

4. Add § 165.1125 to read as follows:

§ 165.1125 Southern California Annual Firework Events for the Los Angeles Long Beach Captain of the Port zone.

(a) General. Safety zones are established for the events listed in Table 1 of this section. Further information on exact dates, times, and other details concerning the exact geographical description of the areas are published by the Eleventh Coast Guard District in the Local Notice to Mariners at least 20 days prior to the event.

(b) Regulations. All persons and vessels not registered with the sponsor as participants or as official patrol vessels are considered spectators. The “official patrol” consists of any Coast Guard; other Federal, state, or local law enforcement; and any public or sponsor-provided vessels assigned or approved by the cognizant Coast Guard Sector Commander to patrol each event.

(1) No spectator shall anchor, block, loiter, nor impede the through transit of participants or official patrol vessels in the safety zone during all applicable effective dates and times unless cleared to do so by or through an official patrol vessel.

(2) When hailed and/or signaled by an official patrol vessel, any spectator located within a safety zone during all applicable effective dates and times shall come to an immediate stop.

(3) The Patrol Commander (PATCOM) is empowered to forbid and control the movement of all vessels in the safety zone. The Patrol Commander shall be designated by the cognizant Coast Guard Sector Commander; will be a U.S. Coast Guard commissioned officer, warrant officer, or petty officer to act as the Sector Commander's official representative; and will be located aboard the lead official patrol vessel. As the Sector Commander's representative, the PATCOM may terminate the event any time it is deemed necessary for the protection of life and property. PATCOM may be reached on VHF-FM Channel 13 (156.65MHz) or 16 (156.8MHz) when required, by the call sign “PATCOM”.

(4) The Patrol Commander may, upon request, allow the transit of commercial vessels through the safety zone when it is safe to do so.

(5) The Coast Guard may be assisted by other Federal, state, or local agencies.

Table 1 to § 165.1125
[All coordinates referenced use datum NAD 83.]
1. Cambria American Legion Post Fourth of July Fireworks
Sponsor | Cambria American Legion Post.
Event Description | Fireworks Display.
Date | July 4th.
Location | Shamel Beach, Cambria, CA.
Regulated Area | 100-foot radius around the fireworks launch barge during the loading of pyrotechnics aboard the fireworks barge and during the transit of the fireworks barge from the loading location to the display location. Increases to a 1,000-foot radius upon commencement of the fireworks display.
2. LA County Dept of Beach and Harbors 4th of July Fireworks
Sponsor | Los Angeles, CA County Dept of Beach and Harbors.
Event Description | Fireworks Display.
Date | July 4th.
Location | Main Ship Channel of Marina Del Rey, CA.
Regulated Area | 100-foot radius around the fireworks launch barge during the loading of pyrotechnics aboard the fireworks barge and during the transit of the fireworks barge from the loading location to the display location. Increases to a 1,000-foot radius upon commencement of the fireworks display.
3. Fourth of July Fireworks, City of Dana Point
Sponsor | City of Dana Point, CA.
Event Description | Fireworks Display.
Date | July 4th.
Location | Offshore Dana Point Harbor, CA.
Regulated Area | 100-foot radius around the fireworks launch barge during the loading of pyrotechnics aboard the fireworks barge and during the transit of the fireworks barge from the loading location to the display location. Increases to a 1,000-foot radius upon commencement of the fireworks display.
4. Fourth of July Fireworks, City of Long Beach
Sponsor | City of Long Beach, CA.
Event Description | Fireworks Display.
Date | July 4th.
Location | Long Beach Harbor, CA.
Regulated Area | 100-foot radius around the fireworks launch barge during the loading of pyrotechnics aboard the fireworks barge and during the transit of the fireworks barge from the loading location to the display location. Increases to a 1,000-foot radius upon commencement of the fireworks display.
5. Fourth of July Fireworks, Irvine Cove Community Association
Sponsor | Irvine Cove Community Association.
Event Description | Fireworks Display.
Date | July 4th.
Location | Offshore Laguna Beach, CA.
Regulated Area | 100-foot radius around the fireworks launch barge during the loading of pyrotechnics aboard the fireworks barge and during the transit of the fireworks barge from the loading location to the display location. Increases to a 1,000-foot radius upon commencement of the fireworks display.
6. Fourth of July Fireworks, Emerald Bay Community Association
Sponsor | Emerald Bay Community Association.
Event Description | Fireworks Display.
Date | July 4th.
Location | Offshore Laguna Beach, CA.
Regulated Area | 100-foot radius around the fireworks launch barge during the loading of pyrotechnics aboard the fireworks barge and during the transit of the fireworks barge from the loading location to the display location. Increases to a 1,000-foot radius upon commencement of the fireworks display.
7. Fourth of July Fireworks, Morro Bay CoC
Sponsor | Morro Bay Chamber of Commerce.
Event Description | Fireworks Display.
Date | July 4th.
Location | Offshore Morro Bay State Park.
Regulated Area | 100-foot radius around the fireworks launch barge during the loading of pyrotechnics aboard the fireworks barge and during the transit of the fireworks barge from the loading location to the display location. Increases to a 1,000-foot radius upon commencement of the fireworks display.
8. Fourth of July Fireworks, Catalina Island CoC
Sponsor | Catalina Island Chamber of Commerce.
Event Description | Fireworks Display.
Date | July 4th.
Location | Avalon Bay, CA.
Regulated Area | 100-foot radius around the fireworks launch barge during the loading of pyrotechnics aboard the fireworks barge and during the transit of the fireworks barge from the loading location to the display location. Increases to a 1,000-foot radius upon commencement of the fireworks display.
9. Fourth of July Fireworks, City of Santa Barbara
Sponsor | City of Santa Barbara, CA.
Event Description | Fireworks Display.
Date | July 4th.
Location | Harbor Entrance of Santa Barbara, CA.
Regulated Area | 100-foot radius around the fireworks launch barge during the loading of pyrotechnics aboard the fireworks barge and during the transit of the fireworks barge from the loading location to the display location. Increases to a 1,000-foot radius upon commencement of the fireworks display.
10. Fourth of July Fireworks, City of Faria
Sponsor | City of Faria, CA.
Event Description | Fireworks Display.
Date | July 4th.
Location | Offshore Faria Beach, CA
Regulated Area | 100-foot radius around the fireworks launch barge during the loading of pyrotechnics aboard the fireworks barge and during the transit of the fireworks barge from the loading location to the display location. Increases to a 1,000-foot radius upon commencement of the fireworks display.
11. Fourth of July Fireworks, City of Redondo Beach
Sponsor | City of Redondo Beach, CA.
Event Description | Fireworks Display.
Date | July 4th.
Location | Offshore Redondo Beach, CA.
Regulated Area | 100-foot radius around the fireworks launch barge during the loading of pyrotechnics aboard the fireworks barge and during the transit of the fireworks barge from the loading location to the display location. Increases to a 1,000-foot radius upon commencement of the fireworks display.
12. Fourth of July Fireworks, City of San Pedro
Sponsor | City of San Pedro, CA.
Event Description | Fireworks Display.
Date | July 4th.
Location | Offshore Cabrillo Beach, CA.
Regulated Area | 100-foot radius around the fireworks launch barge during the loading of pyrotechnics aboard the fireworks barge and during the transit of the fireworks barge from the loading location to the display location. Increases to a 1,000-foot radius upon commencement of the fireworks display.
13. Fourth of July Fireworks, City of Cayucos
Sponsor | City of Cayucos, CA.
Event Description | Fireworks Display.
Date | July 4th.
Location | Cayucos Pier.
Regulated Area | 100-foot radius around the fireworks launch barge during the loading of pyrotechnics aboard the fireworks barge and during the transit of the fireworks barge from the loading location to the display location. Increases to a 1,000-foot radius upon commencement of the fireworks display.

5. Revise § 165.1191 to read as follows:

§ 165.1191 Northern California and Lake Tahoe Area Annual Fireworks Events.

(a) General. Safety zones are established for the events listed in Table 1 of this section. Further information on exact dates, times, and other details concerning the exact geographical description of the areas are published by the Eleventh Coast Guard District in the Local Notice to Mariners at least 20 days prior to the event.

(b) Regulations. All persons and vessels not registered with the sponsor as participants or as official patrol vessels are considered spectators. The “official patrol” consists of any Coast Guard; other Federal, state, or local law enforcement; and any public or sponsor-provided vessels assigned or approved by the cognizant Coast Guard Sector Commander to patrol each event.

(1) No spectator shall anchor, block, loiter, nor impede the through transit of participants or official patrol vessels in the safety zone during all applicable effective dates and times unless cleared to do so by or through an official patrol vessel.

(2) When hailed and/or signaled by an official patrol vessel, any spectator located within a safety zone during all applicable effective dates and times shall come to an immediate stop.

(3) The Patrol Commander (PATCOM) is empowered to forbid and control the movement of all vessels in the safety zone. The Patrol Commander shall be designated by the cognizant Coast Guard Sector Commander; will be a U.S. Coast Guard commissioned officer, warrant officer, or petty officer to act as the Sector Commander's official representative; and will be located aboard the lead official patrol vessel. As the Sector Commander's representative, the PATCOM may terminate the event any time it is deemed necessary for the protection of life and property. PATCOM may be reached on VHF-FM Channel 13 (156.65MHz) or 16 (156.8MHz) when required, by the call sign “PATCOM”.

(4) The Patrol Commander may, upon request, allow the transit of commercial vessels through the safety zone when it is safe to do so.

(5) The Coast Guard may be assisted by other Federal, state, or local agencies.

Table 1 to § 165.1191
[All coordinates referenced use datum NAD 83.]
1. San Francisco Giants Fireworks Display
Sponsor | San Francisco Giants Baseball Team.
Event Description | Fireworks display in conjunction with baseball season home games.
Date | All season home games at AT&T Park.
Location | 1,000 feet off of Pier 48.
Regulated Area | 100-foot radius around the fireworks launch barge during the loading of pyrotechnics aboard the fireworks barge and during the transit of the fireworks barge from the loading location to the display location. Increases to a 1,000-foot radius upon commencement of the fireworks display.
2. KFOG KaBoom
Sponsor | KFOG Radio, San Francisco, CA.
Event Description | Fireworks Display.
Date | Second or Third Saturday in May.
Location | 1,200 feet off Candlestick Point, San Francisco, CA.
Regulated Area | 100-foot radius around the fireworks launch barge during the loading of pyrotechnics aboard the fireworks barge and during the transit of the fireworks barge from the loading location to the display location. Increases to a 1,000-foot radius upon commencement of the fireworks display.
3. Fourth of July Fireworks, City of Eureka
Sponsor | City of Eureka, CA.
Event Description | Fireworks Display.
Date | July 4th.
Location | Humboldt Bay, CA.
Regulated Area | 100-foot radius around the fireworks launch barge during the loading of pyrotechnics aboard the fireworks barge and during the transit of the fireworks barge from the loading location to the display location. Increases to a 1,000-foot radius upon commencement of the fireworks display.
4. Fourth of July Fireworks, Crescent City
Sponsor | Crescent City, CA.
Event Description | Fireworks Display.
Date | July 4th.
Location | Crescent City Harbor.
Regulated Area | 100-foot radius around the fireworks launch barge during the loading of pyrotechnics aboard the fireworks barge and during the transit of the fireworks barge from the loading location to the display location. Increases to a 1,000-foot radius upon commencement of the fireworks display.
5. Fourth of July Fireworks, City of Monterey
Sponsor | City of Monterey, CA: Recreation & Community Services Department.
Event Description | Fireworks Display.
Date | July 4th.
Location | Monterey Bay, CA: East of Municipal Wharf #2.
Regulated Area | 100-foot radius around the fireworks launch barge during the loading of pyrotechnics aboard the fireworks barge and during the transit of the fireworks barge from the loading location to the display location. Increases to a 1,000-foot radius upon commencement of the fireworks display.
6. Light up the Sky Fireworks Display/Pillar Point Harbor Fireworks
Sponsor | Various sponsors.
Event Description | Fireworks Display.
Date | July 4th.
Location | Half Moon Bay, CA.
Regulated Area | Pillar Point Harbor within the area of navigable waters within a 1,000-foot radius of the launch platform located on the harbor break wall.
7. Peninsula Fireworks Spectacular, Redwood City
Sponsor | Peninsula Celebration Association.
Event Description | Fireworks Display.
Date | July 4th.
Location | Redwood City, CA.
Regulated Area | 100-foot radius around the fireworks launch barge during the loading of pyrotechnics aboard the fireworks barge and during the transit of the fireworks barge from the loading location to the display location. Increases to a 1,000-foot radius upon commencement of the fireworks display.
8. San Francisco Independence Day Fireworks Display
Sponsor | The City of San Francisco, CA and the Fisherman's Wharf Association.
Event Description | Fireworks Display.
Date | July 4th.
Location 1 | A barge located approximately 1000 feet off San Francisco Pier 39 at approximately 37°48′49″ N, 122°24′46″ W.
Location 2 | The end of the San Francisco Municipal Pier at Aquatic Park at approximately 37°48′38″ N, 122°24′30″ W.
Regulated Area 1 | 100-foot radius around the fireworks launch barge during the loading of pyrotechnics aboard the fireworks barge and during the transit of the fireworks barge from the loading location to the display location. Increases to a 1,000-foot radius upon commencement of the fireworks display.
Regulated Area 2 | The area of navigable waters within a 1,000-foot radius of the launch platform located on the Municipal Pier.
9. Jack London Square Fourth of July Fireworks
Sponsor | Jack London Square Business Association.
Event Description | Fireworks Display.
Date | July 4th.
Location | Oakland Inner Harbor, CA.
Regulated Area | 100-foot radius around the fireworks launch barge during the loading of pyrotechnics aboard the fireworks barge and during the transit of the fireworks barge from the loading location to the display location. Increases to a 1,000-foot radius upon commencement of the fireworks display.
10. Fourth of July Fireworks, Berkley Marina
Sponsor | Berkeley Marina.
Event Description | Fireworks Display.
Date | July 4th.
Location | Berkeley Pier, CA
Regulated Area | The area of navigable waters within a 1,000-foot radius of the launch platform located on the Berkeley Pier.
11. Fourth of July Fireworks, City of Richmond
Sponsor | City of Richmond.
Event Description | Fireworks Display.
Date | Week of July 4th.
Location | Richmond Harbor, CA.
Regulated Area | 100-foot radius around the fireworks launch barge during the loading of pyrotechnics aboard the fireworks barge and during the transit of the fireworks barge from the loading location to the display location. Increases to a 1,000-foot radius upon commencement of the fireworks display.
12. Fourth of July Fireworks, City of Sausalito
Sponsor | City of Sausalito.
Event Description | Fireworks Display.
Date | July 4th.
Location | 1,000 feet off-shore from Sausalito, CA waterfront, north of Spinnaker Restaurant.
Regulated Area | 100-foot radius around the fireworks launch barge during the loading of pyrotechnics aboard the fireworks barge and during the transit of the fireworks barge from the loading location to the display location. Increases to a 1,000-foot radius upon commencement of the fireworks display.
13. Fourth of July Fireworks, City of Martinez
Sponsor | City of Martinez.
Event Description | Fireworks Display.
Date | July 4th.
Location | Carquinez Strait, CA
Regulated Area | The area of navigable waters within a 1,000-foot radius of the launch platform located on a Martinez Marina Pier.
14. Fourth of July Fireworks, City of Antioch
Sponsor | City of Antioch.
Event Description | Fireworks Display.
Date | July 4th.
Location | San Joaquin River, CA.
Regulated Area | 100-foot radius around the fireworks launch barge during the loading of pyrotechnics aboard the fireworks barge and during the transit of the fireworks barge from the loading location to the display location. Increases to a 1,000-foot radius upon commencement of the moving fireworks display.
15. Fourth of July Fireworks, City of Pittsburg
Sponsor | City of Pittsburg.
Event Description | Fireworks Display.
Date | July 4th.
Location | Suisun Bay, CA.
Regulated Area | The area of navigable waters within a 1,000-foot radius of the launch platform located on a Pittsburg Marina Pier.
16. Independence Day Celebration, City of Stockton
Sponsor | City of Stockton.
Event Description | Fireworks Display.
Date | July 4th.
Location | Stockton, CA Deep Water Ship Channel.
Regulated Area | The area of navigable waters from the Port of Stockton to Mcleod Lake; beginning at 37°57′06″ N, 121°19′35″ W, then north to 37°57′10″ N, 121°19′36″ W, then north-east 37°57′24″ N, 121°17′35″ W, south-west 37°57′15″ N, 121°17′41″ W, then south-east 37°57′14″ N, 121°17′31″ W, and then back to the beginning point.
17. Hilton Fourth of July Fireworks
Sponsor | Hilton Corporation.
Event Description | Fireworks Display.
Date | July 4th.
Location | San Joaquin River, near Venice Island, CA.
Regulated Area | 100-foot radius around the fireworks launch barge during the loading of pyrotechnics aboard the fireworks barge and during the transit of the fireworks barge from the loading location to the display location. Increases to a 1,000-foot radius upon commencement of the fireworks display.
18. Fourth of July Fireworks Display, Tahoe City, CA
Sponsor | Tahoe City Rotary.
Event Description | Fireworks Display.
Date | July 4th.
Location | Off-shore from Common Beach, Tahoe City, CA.
Regulated Area | 100-foot radius around the fireworks launch barge during the loading of pyrotechnics aboard the fireworks barge and during the transit of the fireworks barge from the loading location to the display location. Increases to a 1,000-foot radius upon commencement of the fireworks display.
19. Fourth of July Fireworks Display, Glenbrook NV
Sponsor | Glenbrook Community Homeowners Association.
Event Description | Fireworks Display.
Date | July 4th.
Location | Off-shore Glenbrook Beach, NV.
Regulated Area | 100-foot radius around the fireworks launch barge during the loading of pyrotechnics aboard the fireworks barge and during the transit of the fireworks barge from the loading location to the display location. Increases to a 1,000-foot radius upon commencement of the fireworks display.
20. Independence Day Fireworks, Kings Beach, CA
Sponsor | North Tahoe Business Association.
Event Description | Fireworks Displays.
Date | Week of July 4th.
Location | Off-shore from Kings Beach, CA
Regulated Area | 100-foot radius around the fireworks launch barge during the loading of pyrotechnics aboard the fireworks barge and during the transit of the fireworks barge from the loading location to the display location. Increases to a 1,000-foot radius upon commencement of the fireworks display.
21. “Lights on the Lake” Fourth of July Fireworks, South Lake Tahoe, CA
Sponsor | Various Sponsors.
Event Description | Fireworks Display.
Date | Week of July 4th.
Location | Off South Lake Tahoe, CA near the NV Border.
Regulated Area | 100-foot radius around the fireworks launch barge during the loading of pyrotechnics aboard the fireworks barge and during the transit of the fireworks barge from the loading location to the display location. Increases to a 1,000-foot radius upon commencement of the fireworks display.
22. Red, White, and Tahoe Blue Fireworks, Incline Village, NV
Sponsor | Various Sponsors.
Event Description | Fireworks Display.
Date | Week of July 4th.
Location | 500-1,000 feet off Incline Village, NV in Crystal Bay.
Regulated Area | 100-foot radius around the fireworks launch barge during the loading of pyrotechnics aboard the fireworks barge and during the transit of the fireworks barge from the loading location to the display location. Increases to a 1,000-foot radius upon commencement of the fireworks display.
23. Independence Day Fireworks Display, Homewood, CA
Sponsor | Westshore Café.
Event Description | Fireworks Display.
Date | Week of July 4th.
Location | Homewood, CA.
Regulated Area | 100-foot radius around the fireworks launch barge during the loading of pyrotechnics aboard the fireworks barge and during the transit of the fireworks barge from the loading location to the display location. Increases to a 1,000-foot radius upon commencement of the fireworks display.
24. “Labor Day Fireworks Display,” South Lake Tahoe, CA
Sponsor | Various Sponsors.
Event Description | Fireworks Display.
Date | Labor Day.
Location | Off South Lake Tahoe, California near the Nevada Border.
Regulated Area | 100-foot radius around the fireworks launch barge during the loading of pyrotechnics aboard the fireworks barge and during the transit of the fireworks barge from the loading location to the display location. Increases to a 1,000-foot radius upon commencement of the fireworks display.
25. Fleet Week Fireworks
Sponsor | Various Sponsors.
Event Description | Fireworks Display.
Date | Second Friday and Saturday in October.
Location | 1,000 feet off Pier 3, San Francisco, CA.
Regulated Area | 100-foot radius around the fireworks launch barge during the loading of pyrotechnics aboard the fireworks barge and during the transit of the fireworks barge from the loading location to the display location. Increases to a 1,000-foot radius upon commencement of the fireworks display.
26. Monte Foundation Fireworks
Sponsor | Monte Foundation Fireworks.
Event Description | Fireworks Display.
Date | Second Saturday in October.
Location | Sea Cliff State Beach Pier in Aptos, CA.
Regulated Area | 1,000-foot safety zone around the navigable waters of the Sea Cliff State Beach Pier.
27. Rio Vista Bass Derby Fireworks
Sponsor | Rio Vista Chamber of Commerce.
Event Description | Fireworks Display.
Date | Second Saturday in October.
Location | 500 feet off Rio Vista, CA waterfront.
Regulated Area | 100-foot radius around the fireworks launch barge during the loading of pyrotechnics aboard the fireworks barge and during the transit of the fireworks barge from the loading location to the display location. Increases to a 1,000-foot radius upon commencement of the fireworks display.
28. San Francisco New Years Eve Fireworks Display
Sponsor | City of San Francisco.
Event Description | Fireworks Display.
Date | New Years Eve, December 31st.
Location | 1,000 feet off Pier 2, San Francisco, CA.
Regulated Area | 100-foot radius around the fireworks launch barge during the loading of pyrotechnics aboard the fireworks barge and during the transit of the fireworks barge from the loading location to the display location. Increases to a 1,000-foot radius upon commencement of the fireworks display.
29. Sacramento New Years Eve Fireworks Display
Sponsor | Sacramento Convention and Visitors' Bureau.
Event Description | Fireworks Display.
Date | New Years Eve, December 31st.
Location | Near Tower Bridge, Sacramento River.
Regulated Area | The navigable waters of the Sacramento River surrounding the shore-based launch locations between two lines drawn 1,000 feet south of Tower Bridge, and 1,000 feet north of the I Street Bridge.

Dated: July 19, 2011.
J.R. Castillo,
Rear Admiral, U.S. Coast Guard, Commander, Eleventh Coast Guard District.

[FR Doc. 2011-20761 Filed 8-15-11; 8:45 am]

BILLING CODE 9110-04-P